DEPARTMENT OF TRANSPORTATION

Federal Aviation Administration

[Docket No. FAA-1998-4379]

Delegation of Authority

AGENCY: Federal Aviation Administration (FAA), DOT.

ACTION: Notice of delegation of authority.

SUMMARY: The FAA is giving notice of a specific delegation of authority from the FAA Administrator to the Associate Chief Counsel/Director, Office of Dispute Resolution for Acquisition (hereinafter the “ODRA Director”), to supplement and expand the authority conveyed under Title 14 CFR part 17 and the Administrator's delegation of July 29, 1998, in order to permit the ODRA Director to issue final FAA Agency orders on behalf of the Administrator in certain bid protests and contract disputes filed with the FAA Office of Dispute Resolution for Acquisition. The delegation was set forth in a memorandum signed by the Administrator dated March 27, 2000. The FAA is publishing the text of the delegation, so that it is available to interested parties.

FOR FURTHER INFORMATION CONTACT: Marie A. Collins, Staff Attorney and Dispute Officer for the Office of Dispute Resolution for Acquisition (ACG-70), Federal Aviation Administration, 400 Seventh Street, SW, Room 8332, Washington, DC 20590; telephone (202) 366-6400; facsimile (202) 366-7400.

SUPPLEMENTARY INFORMATION: Under the Department of Transportation and Related Agencies Appropriations Act of 1996, Public Law 104-50, 109 Stat. 436 (1995) (“Appropriations Act”), Congress directed the FAA to develop an acquisition system that addresses the mission and unique needs of the Agency and at a minimum, provides for more timely and cost-effective acquisition of equipment and materials. In the Appropriations Act, Congress expressly directed the FAA to create the new acquisition system without reference to existing procurement statutes and regulations. The result was the development of the FAA's Acquisition Management System (AMS) and the establishment of the Office of Dispute Resolution for Acquisition (ODRA), which is independent of the FAA's procurement offices and counsel. The ODRA serves as the forum for administrative resolution and adjudication of bid protests and contract disputes arising from AMS acquisitions and contracts. The ODRA's mandate is to resolve such bid protests and contract disputes in a timely and efficient manner, while emphasizing the use of alternative dispute resolution techniques to the maximum extent practicable. A final procedural rule that took effect on June 28, 1999 for ODRA bid protests and contract disputes was published in the Federal Register on June 18, 1999 (64 FR 34926). Technical corrections to the rule were published in the Federal Register on August 31, 1999 (64 FR 47361).

The full text of the March 27, 2000 delegation from the Administrator to the ODRA Director provides the ODRA Director with additional authority to act on behalf of the Administrator with respect to ODRA bid protests and contract disputes as follows: In order to render more efficient the FAA acquisition dispute resolution process, pursuant to 49 U.S.C. 106(f)(2), 49 U.S.C. 46101, et seq., Public Law 104-50 and 14 CFR Part 17, I hereby delegate to the Associate Chief Counsel/Director, Office of Dispute Resolution for Acquisition (ODRA) authority to execute and issue on behalf of the Administrator, orders and final decisions for the FAA in all matters within the ODRA's jurisdiction, provided that such matters involve either: (1) A bid protest concerning an acquisition having a value or potential value of not more than one million dollars ($1,000,000.00); or (2) a contract dispute involving a total amount in dispute, exclusive of interest, legal fees or costs, of not more than one million dollars ($1,000,000.00). The Associate Chief Counsel/ODRA Director further is authorized to execute and issue orders and final decisions on behalf of the Administrator for any applications made pursuant to the Equal Access to Justice Act for matters within the ODRA's jurisdiction.

The foregoing authority may not be re-delegated.

This delegation supplements and expands the authority previously delegated by me on July 29, 1998. This delegation does not preclude the Associate Chief Counsel/Director of the ODRA from requesting, in any matter before the ODRA, that the order setting forth the final decision of the FAA be executed by the Administrator.

Issued in Washington, DC, on March 27, 2000.
James Whitlow,
Acting Chief Counsel.

[FR Doc. 00-9146 Filed 4-12-00; 8:45 am]

BILLING CODE 4910-13-M